DEPARTMENT OF COMMERCE

National Institute of Standards and Technology

Announcing an Open Meeting of the Information Security and Privacy Advisory Board

AGENCY: National Institute of Standards and Technology, Commerce.

ACTION: Notice.

SUMMARY: The Information Security and Privacy Advisory Board (ISPAB) will meet Wednesday, February 13, 2013, from 8:00 a.m. until 5:00 p.m. Eastern Time, Thursday, February 14, 2013, from 8:00 a.m. until 5:00 p.m. Eastern Time, and Friday, February 15, 2013, from 8:00 a.m. until 12:00 p.m. Eastern Time. All sessions will be open to the public.

DATES: The meeting will be held on Wednesday, February 13, 2013, from 8:00 a.m. until 5:00 p.m. Eastern Time, Thursday, February 14, 2013, from 8:00 a.m. until 5:00 p.m. Eastern Time, and Friday, February 15, 2013, from 8:00 a.m. until 12:00 p.m. Eastern Time.

ADDRESSES: The meeting will take place at the United States Access Board Conference Room, 1331 F Street NW., Suite 800, Washington, DC 20004.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, February 13, 2013, from 8:00 a.m. until 5:00 p.m. Eastern Time, Thursday, February 14, 2013, from 8:00 a.m. until 5:00 p.m. Eastern Time, and Friday, February 15, 2013, from 8:00 a.m. until 12:00 p.m. Eastern Time. All sessions will be open to the public. The ISPAB is authorized by 15 U.S.C. 278g-4, as amended, and advises the Secretary of Commerce, the Director of the Office of Management and Budget, and the Director of NIST on security and privacy issues pertaining to federal computer systems. Details regarding the ISPAB's activities are available at http://csrc.nist.gov/groups/SMA/ispab/index.html.

The agenda is expected to include the following items:

—Federal Information Security Management Act (FISMA) Policy,

—FISMA Implementation,

—FISMA Legislation,

—FISMA and Certification and Accreditation,

—FISMA and Continuous Monitoring,

—Controlled Unclassified Information,

—Automated Intelligence Sharing,

—Global Policy,

—Telecommunication technology—detection and filtering malicious traffic,

—Cybersecurity Updates from the White House,

—Legislative Updates, and

—Update of NIST Computer Security Division.

Note that agenda items may change without notice because of possible unexpected schedule conflicts of presenters. The final agenda will be posted on the Web site indicated above. Seating will be available for the public and media. No registration is required to attend this meeting.

Public Participation: The ISPAB agenda will include a period of time, not to exceed thirty minutes, for oral comments from the public (Friday, February 15, 2013, between 10:00 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Dated: December 21, 2012.
Willie E. May,
Associate Director for Laboratory Programs.

[FR Doc. 2012-31525 Filed 12-31-12; 8:45 am]

BILLING CODE 3510-13-P